DEPARTMENT OF THE INTERIOR

Fish and Wildlife Service

Aquatic Nuisance Species Task Force Northeast Regional Panel Meeting

AGENCY: Fish and Wildlife Service, Interior.

ACTION: Notice of meeting.

SUMMARY: This notice announces a meeting of the Aquatic Nuisance Species (ANS) Task Force Northeast Regional Panel. The meeting is open to the public. The meeting topics are identified in the SUPPLEMENTARY INFORMATION section.

DATES: The Northeast Regional Panel will meet from 1 p.m. to 5 p.m. on Wednesday, May 4, 2005, and 8:30 a.m. to 4 p.m. on Thursday, May 5, 2005. Minutes of the meeting will be available for public inspection during regular business hours, Monday through Friday.

ADDRESSES: The Northeast Regional Panel meeting will be held at the Urban Forestry Center, 45 Elwyn Road, Portsmouth, NH 03801. Phone (603) 431-6774. Minutes of the meeting will be maintained by the Executive Secretary, Aquatic Nuisance Species Task Force, Suite 810, 4401 North Fairfax Drive, Arlington, Virginia 22203-1622.

FOR FURTHER INFORMATION CONTACT: Michele Tremblay, NEANS Panel Program Manager at (603) 796-2615 or, by e-mail, at info@northeastans.org or Pam Meacham, Aquatic Nuisance Species Task Force, at (703) 358-1796.

SUPPLEMENTARY INFORMATION: Pursuant to section 10(a)(2) of the Federal Advisory Committee Act (5 U.S.C. App. I), this notice announces a meeting of the Aquatic Nuisance Species Task Force Northeast Regional Panel. The ANS Task Force was established by the Nonindigenous Aquatic Nuisance Prevention and Control Act of 1990. The Northeast Regional Panel was established by the ANS Task Force in 2001. The NEANS Panel, comprised of representatives from Federal, State, and local agencies and from private environmental and commercial interests, performs the following activities:

a. Identifies priorities for the Northeast Region with respect to aquatic nuisance species,

b. Makes recommendations to the Task Force,

c. Assists the Task Force in coordinating Federal aquatic nuisance species program activities in the Northeast region,

d. Coordinates aquatic nuisance species program activities in the Northeast region,

e. Provides advice to public and private individuals and entities concerning methods of controlling aquatic nuisance species, and

f. Submits an annual report describing activities within the Northeast region related to aquatic nuisance species prevention, research, and control.

The purpose of the Panel is to advise and make recommendations to the Aquatic Nuisance Species Task Force on issues relating to the Northeast region of the United States that includes seven Northeast region States: Maine, New Hampshire, Vermont, Massachusetts, Rhode Island, Connecticut, and New York. The Northeast Regional Panel will discuss several topics at this meeting including: Future panel meeting scheduling; activities updates of the ANS Task Force and Invasive Species Council and other groups; roundtable; committee break-out planning sessions and updates; research priorities; New York State highlights; New England rapid assessment progress; New Hampshire outreach pilot program; pet industry panel; and a feature on an aquatic or marine plant or animal species.

Dated: February 23, 2005.
Mamie Parker,
Co-Chair, Aquatic Nuisance Species Task Force, Assistant Director—Fisheries & Habitat Conservation.

[FR Doc. 05-4701 Filed 3-9-05; 8:45 am]

BILLING CODE 4310-55-P